DEPARTMENT OF AGRICULTURE

Food and Nutrition Service

Agency Information Collection Activities: Supplemental Nutrition Assistance Program (SNAP) Benefit Expungement and Off-Line Storage

AGENCY: Food and Nutrition Service (FNS), USDA.

ACTION: Notice.

SUMMARY: In accordance with the Paperwork Reduction Act of 1995, this notice invites the general public and other public agencies to comment on this proposed information collection associated with SNAP benefit storage and expungement provisions of the 2008 and 2018 Farm Bills. This collection is an extension, without change, of a currently approved collection. This collection is for providing SNAP households advance or concurrent notice of State agency action to store unused SNAP benefits offline due to three or more months of account inactivity and for those households to seek reinstatement of benefits prior to permanent expungement. This collection is also for providing SNAP households advance or concurrent notice prior to the State agency expunging unused SNAP benefits from the household's Electronic Benefit Transfer (EBT) account due to nine months of account inactivity.

DATES: Written comments must be received on or before December 16, 2024.

ADDRESSES: Comments may be sent to Erica Kain, Chief, Issuance Support Branch, Issuance Policy and Innovation Division, Food and Nutrition Service (FNS), U.S. Department of Agriculture (USDA), 1320 Braddock Place, 5th Floor, Alexandria, Virginia 22314, or via email to SM.FN.SNAP.Issuance.Policy@usda.gov. Comments will also be accepted through the Federal eRulemaking Portal: Go to http://www.regulations.gov and follow the online instructions for submitting comments electronically.

All responses to this notice will be summarized and included in the request for Office of Management and Budget approval. All comments will be a matter of public record.

FOR FURTHER INFORMATION CONTACT: Requests for additional information or copies of this information collection should be directed to Erica Kain at SM.FN.SNAP.Issuance.Policy@usda.gov or (312)-339-1939.

SUPPLEMENTARY INFORMATION: Comments are invited on: (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: SNAP Benefit Storage and Expungement.

Form Number: Not applicable.

OMB Number: 0584-0673.

Expiration Date: 07/31/2025.

Type of Request: Extension, without change, of a currently approved collection.

Abstract: On August 24, 2020, the Department published the final rule, “Supplemental Nutrition Assistance Program: 2008 Farm Bill Provisions on Clarification of Split Issuance; Accrual of Benefits and Definition Changes” (85 FR 52025) to implement the mandatory SNAP benefit storage and expungement provisions of the Food, Conservation and Energy Act of 2008, Public Law 110-243 (2008 Farm Bill). In the final rule, the Department also adopted as final the provisions in the Agriculture Improvement Act of 2018, Public Law 115-334 (2018 Farm Bill), that mandated changes to the requirements governing the storage and expungement of unused benefits.

As a result, State agencies are required to provide a 30-day advance notice prior to permanently expunging unused SNAP benefits that remain in household's account nine months after issuance or after nine months of account inactivity. State agencies that opt to take unused benefits off-line after three months of SNAP EBT account inactivity must also provide up to 10 days advance or concurrent notice prior to taking such action and to reinstate benefits store off-line within 48 hours of a household's request if the benefits have not reached the expungement timeframe. Currently, FNS is not aware of any State agency exercising the option to store unused benefits off-line prior to expungement.

1. Expungement Notice

Affected Public: (a) Individuals/Households and (b) State agencies: Respondent groups identified include: (1) 3,505,979 SNAP households (approximately 18 percent of all SNAP households nationwide) who do not access their benefits within nine months and (2) 53 State SNAP agencies.

a. Individuals/Households Annual Burden

Estimated Annual Number of Respondents: 3,505,797.

Estimated Annual Number of Responses per Respondent: 1.17.

Estimated Total Annual Responses: 4,101,782.

Estimated Annual Time per Response: 3 minutes or 0.05 hours.

Estimated Total Annual Burden on Respondents: 205,089 hours.

b. State Agency Annual Burden

Estimated Annual Number of Respondents: 53.

Estimated Annual Number of Responses per Respondent: 77,392.

Estimated Total Annual Responses: 4,101,782.

Estimated Annual Time per Response: 30 seconds or 0.0083 hours.

Estimated Total Annual Burden on Respondents: 34,045 hours.

c. Grand Total Annual Burden

Estimated Annual Number of Respondents: 3,505,850.

Estimated Annual Number of Responses per Respondent: 2.33996434.

Estimated Total Annual Responses: 8,203,564.00.

Estimated Annual Time per Response: 0.02915000.

Estimated Total Annual Burden on Respondents: 239,134.

2. Off-Line Storage Notice

Affected Public: No members of the public are affected as FNS is not aware of any State agency currently exercising the option to store benefits off-line.

3. Off-Line Benefit Reinstatement

Affected Public: No members of the public are affected as FNS is not aware of any State agency exercising the option to move benefits off-line, thereby removing the need for reinstatement.

Respondent | Activity | Estimated annual number respondent | Responses annually per respondent | Total annual responses | Estimated avg. number of hours per response annually | Estimated annual total hours
Individual or Household SNAP Recipients | Expungement Notice | 3,505,797 | 1.17 | 4,101,782 | .05 | 205,089
| Off-line Storage Notice | 0 | 0 | 0 | 0 | 0
| Off-line Benefit Reinstatement | 0 | 0 | 0 | 0 | 0
Sub-total of Individual/Household SNAP recipients |  | 3,505,797 | 1.17 | 4,101,782 | .05 | 205,089
State Agencies | Expungement Notice | 53 | 77,392 | 4,101,782 | 0.0083 | 34,045
| Off-line Storage Notice | 0 | 0 | 0 | 0 | 0
| Off-line Benefit Reinstatement | 0 | 0 | 0 | 0 | 0
Sub-total of State Agencies |  | 53 | 77,392 | 4,101,782 | 0.0083 | 34,045
Total Reporting Burden with both Affect Public |  | 3,505,850 | 2.33996434 | 8,203,564 | 0.02915000 | 239,134

Tameka Owens,
Acting Administrator and Assistant Administrator, Food and Nutrition Service.

[FR Doc. 2024-23727 Filed 10-11-24; 8:45 am]

BILLING CODE 3410-30-P